DEPARTMENT OF COMMERCE

Foreign-Trade Zones Board

[S-161-2017]

Foreign-Trade Zone 280—Ada and Canyon Counties, Idaho; Application for Subzone Expansion; Orgill, Inc.; Post Falls, Idaho

An application has been submitted to the Foreign-Trade Zones Board (the Board) by the Southwest Idaho Manufacturers' Alliance, grantee of FTZ 280, requesting expanded subzone status for the facility of Orgill, Inc. (Orgill), located in Coeur d'Alene, Idaho. The application was submitted pursuant to the provisions of the Foreign-Trade Zones Act, as amended (19 U.S.C. 81a-81u), and the regulations of the Board (15 CFR part 400). It was formally docketed on October 13, 2017.

Subzone 280B currently consists of: Site 1 (31.13 acres)—1881 West Seltice, Way, Post Falls, Idaho. The applicant is now requesting authority to expand the subzone to include: proposed Site 2 (1.22 acres)—500 West Dalton Avenue, Coeur d'Alene. No authorization for production activity has been requested at this time. The expanded subzone would be subject to the existing activation limit of FTZ 280.

In accordance with the Board's regulations, Christopher Kemp of the FTZ Staff is designated examiner to review the application and make recommendations to the Executive Secretary.

Public comment is invited from interested parties. Submissions shall be addressed to the Board's Executive Secretary at the address below. The closing period for their receipt is November 27, 2017. Rebuttal comments in response to material submitted during the foregoing period may be submitted during the subsequent 15-day period to December 12, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: October 13, 2017.
Camille R. Evans,
Acting Executive Secretary.

[FR Doc. 2017-22603 Filed 10-17-17; 8:45 am]

BILLING CODE 3510-DS-P